FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington, DC 20551-0001, not later than April 5, 2022.

A. Federal Reserve Bank of Minneapolis (Chris P. Wangen, Assistant Vice President) 90 Hennepin Avenue, Minneapolis, Minnesota 55480-0291: Comments can also be sent electronically to MA@mpls.frb.org:

1. Brent D. Moum, Bottineau, North Dakota; to acquire voting shares of the State Bank of Bottineau Holding Company, and thereby indirectly acquire voting shares of the State Bank of Bottineau, both of Bottineau, North Dakota.

B. Federal Reserve Bank of Dallas (Karen Smith, Director, Applications) 2200 North Pearl Street, Dallas, Texas 75201-2272:

1. The Katherine Orsak Irrevocable Asset Trust, Katherine Cecil Orsak, individually, and as trustee, and Stephen Paul Orsak, all of Dallas, Texas; The John Stephen Cecil Irrevocable Asset Trust, John Stephen Cecil, individually, and as trustee, and Meredith J. Cecil, all of San Angelo, Texas; Stephanie Sawyer Cecil, The Carl Cecil Irrevocable Asset Trust, Carl Thomas Cecil, individually, and as trustee, all of Paris, Texas; Julie A. Conger Enis, William Barton Enis, Karen Conger Welton, and The Sidney B. Conger and Jean Cecil Conger Living Trust, Sidney B. Conger and Jean Cecil Conger, as co-trustees, and The Conger Family Partnership, the Sidney B. Conger and Jean Cecil Conger Living Trust, as general partner, all of Houston, Texas; Lauren Lee Prickett, Atlanta, Georgia; The Randle R. Cecil Trust A, Paris, Texas, Jean Cecil Conger, as trustee, Houston, Texas; a group acting in concert to retain voting shares of Paris Bancshares, Inc., and thereby indirectly retain voting shares of The Liberty National Bank in Paris, both in Paris, Texas.

Board of Governors of the Federal Reserve System, March 16, 2022.
Michele Taylor Fennell,
Deputy Associate Secretary of the Board.

[FR Doc. 2022-05903 Filed 3-18-22; 8:45 am]

BILLING CODE P